DEPARTMENT OF JUSTICE

Notice of Lodging of Proposed Amendment to Consent Decree Under the Clean Water Act

On April 4, 2013, the Department of Justice lodged with the United States District Court for the Eastern District of Virginia a proposed Second Amendment to the Consent Decree previously entered in United States and Commonwealth of Virginia v. Hampton Roads Sanitation District, Civil Action No. 2:09-cv-481 (“Second Amendment”).

Hampton Roads Sanitation District (“HRSD”) and the Localities ¹ are evaluating the potential benefits and feasibility of regionalization and consolidation of the Localities' sewage collection systems under a single regional entity, HRSD. Presently, HRSD generally owns and operates the large interceptor force mains and related pumping stations, as well as the sewage treatment plants, and the Localities generally own and operate the local sewage collection lines, many of which are gravity lines, and associated pumping stations. The proposed Second Amendment provides that the Regional Wet Weather Management Plan, originally due on November 26, 2013, will be due no later than October 1, 2016, so that HRSD and the Localities will have time to evaluate and, if appropriate, to implement the transfer of Locality sewer systems to HRSD. The proposed Second Amendment also sets forth a phased sequence and schedule for the decision-making process of HRSD and the Localities as they consider regionalization and consolidation of the Localities' sewage collection systems under a single regional entity, HRSD, and for the transfer of Locality assets should regionalization proceed.² Finally, HRSD commits in the Second Amendment to implement an additional 18 capital projects, with an estimated cost of approximately $60 million, to continue to improve local water quality notwithstanding the extension.

¹ The Localities are the thirteen municipal and county governments that collect and convey wastewaters to the HRSD system for further conveyance and treatment at the HRSD sewage treatment plants.

² The Localities are not parties to the consent decree and are not subject to the jurisdiction of the Court. It is anticipated that HRSD and the Localities will evaluate jointly the consolidation of the sewer systems, pumping stations, and other appurtenances, and that each Locality will need to elect to transfer assets to HRSD as part of any regionalization process.

The publication of this notice opens a period for public comment on the proposed Second Amendment. Comments should be addressed to the Assistant Attorney General, Environment and Natural Resources Division, and should refer to United States et al. v. Hampton Roads Sanitation District, D.J. Ref. No.90-5-1-1-09125. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Second Amendment may be examined and downloaded at this Justice Department Web site: http://www.usdoj.gov/enrd/Consent_Decrees.html. We will provide a paper copy of the Second Amendment upon written request and payment of reproduction costs. Please mail your request and payment to: Consent Decree Library, U.S. DOJ—ENRD, P.O. Box 7611, Washington, DC 20044-7611.

Please enclose a check or money order for $ 3.25 (25 cents per page reproduction cost) payable to the United States Treasury.

Robert Brook,
Assistant Section Chief, Environmental Enforcement Section, Environment and Natural Resources Division.

[FR Doc. 2013-08219 Filed 4-8-13; 8:45 am]

BILLING CODE 4410-15-P